DEPARTMENT OF STATE

[Public Notice: 7525]

Lifting of Sanctions on Person Associated With the A.Q. Khan Nuclear Procurement Network

AGENCY: Bureau of International Security and Nonproliferation, Department of State.

ACTION: Notice.

SUMMARY: A determination has been made to lift the measures imposed on Shah Hakim Shahnazim Zain pursuant to the Nuclear Proliferation Prevention Act (NPPA), Section 821 of the Foreign Relations Authorization Act for Fiscal Years 1994-1995 (22 U.S.C. 6301), the Export-Import Bank Act of 1945 (as amended) Section 2(b)(4) (12 U.S.C. 635 (b)(4)), and Executive Order 12938 of November 14, 1994 as amended by Executive Order 13094 of July 28, 1998.

DATES: Effective Date: July 18, 2011.

FOR FURTHER INFORMATION CONTACT: Director, Office of Counterproliferation Initiatives, Bureau of International Security and Nonproliferation, Department of State, Washington, DC 20520, Tel.: 202/647-7895.

SUPPLEMENTARY INFORMATION: The restrictions were first imposed on January 16, 2009 (see 74 FR 3126, Jan 16, 2009; Public Notice 6486).

Dated: July 12, 2011.
Vann H. Van Diepen,
Acting Assistant Secretary of State, International Security and Nonproliferation, Department of State.

[FR Doc. 2011-18057 Filed 7-15-11; 8:45 am]

BILLING CODE 4710-27-P